DEPARTMENT OF TRANSPORTATION

Federal Highway Administration

Notice of Final Federal Agency Actions on Proposed Highway in California

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). These actions relate to a proposed highway project, State Route 46 Corridor Improvement Project between Kilo Posts 51.8 to 90.6 (Post Miles 32.2 to 56.3) in San Luis Obispo County, State of California. These actions grant approvals for the project.

DATES: By this notice, the FHWA is advising the public of final agency actions subject to 23 U.S.C. 139(l)(1). A claim seeking judicial review of the Federal agency actions on the highway project will be barred unless the claim is filed on or before December 5, 2006. If the Federal law that authorizes judicial review of a claim provides a time period of less than 180 days for filing such claim, then that shorter time period still applies.

FOR FURTHER INFORMATION CONTACT: Dominic Hoang, Project Development Engineer, Federal Highway Administration, 650 Capitol Mall, #4-100, Sacramento, CA 95814, weekdays between 7 a.m. and 4 p.m., telephone 916-498-5002, dominic.hoang@fhwa.dot.gov. John Luchetta, Senior Environmental Planner, California Department of Transportation, 50 Higuera Street, San Luis Obispo, CA 93402, weekdays between 8 a.m. and 4:30 p.m., (805) 549-3493, john_Luchetta@dot.ca.gov.

SUPPLEMENTARY INFORMATION: Notice is hereby given that the FHWA and other Federal agencies have taken final agency actions by issuing approvals for the following highway project in the State of California. This project would improve safety and provide congestion relief on State Route 46, San Luis Obispo County, California. This would be accomplished by creating an additional travel lane in each direction (east and west), separating the east and west bound lanes by a median, improving inside and outside widths, and providing left-turn channelization at all public road intersections within the project limits. Safety would also be improved at the State Route 46/41 junction by replacing the at grade intersection with a new interchange for the connection. The FHWA project reference number is H240 00PE (006). The actions by the Federal agencies, and the laws under which such actions were taken, are described in the Environmental Assessment (EA)/Finding of No Significant Impact (FONSI) for the project, approved on May 19th, 2006, and in other documents in the FHWA administrative record. The EA/FONSI, and other documents in the FHWA administrative record file are available by contacting the FHWA or the California Department of Transportation at the addresses provided above. The FHWA EA/FONSI can be reviewed and downloaded from the project Web site at http://safer46.dot.ca.gov/.

The notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Landscaping and Scenic Enhancement (Wildflowers), 23 U.S.C. 319.

4. Wildlife: Endangered Species Act [16 U.S.C. 1531-1544 and section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 2001-3013].

6. Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance and Real Property Acquisition Policies Act of 1970, as amended.

7. Hazardous Materials: Comprehensive Environmental Response, Compensation, and Liabiilty Act (CERCLA), 42 U.S.C. 9601-9675; Superfund Amendments and Reauthorization Act of 19086 (SARA); Resource Conservation and Recovery Act (RCRA), 42 U.S.C. 6901-6992(k).

8. Executive Orders: E.O. 11990 Protection of Wetlands; E.O. 11988 Floodplain Management; E.O. 12898, Fedeal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Fedeal Domestic Assistance Program Number 20.205, Highway Planning and Construction. The regulations implementing Executive Order 12372 regarding intergovernmental consultation of Federal programs and activities apply to this program.)
(Authority: 23 U.S.C. 139(l)(1)).
Issued on: June 1, 2006.
Maiser Khaled,
Director, Project Development & Environment, Sacramento, California.

[FR Doc. 06-5202 Filed 6-7-06; 8:45 am]

BILLING CODE 4910-22-M